DEPARTMENT OF EDUCATION

President's Board of Advisors on Historically Black Colleges and Universities

AGENCY: U.S. Department of Education, President's Board of Advisors on Historically Black Colleges and Universities, Office of Undersecretary, U.S. Department of Education.

ACTION: Announcement of an open meeting.

SUMMARY: This notice sets forth the agenda for the September 11, 2019 meeting of the President's Board of Advisors on Historically Black Colleges and Universities (PBA) and provides information to members of the public on submitting written comments and on the process as to how to request time to make oral comments at the meeting. The notice also describes the functions of the PBA. Notice of the meeting is required by § 10(a)(2) of the Federal Advisory Committee Act (FACA) and is intended to notify the public of its opportunity to attend.

DATE: The PBA meeting will be held on September 11, 2019, from 9:30 a.m. to 2 p.m. E.D.T. in the Renaissance Ballroom East at the Renaissance Washington, DC Downtown Hotel, 999 9th Street NW, Washington, DC 20001.

FOR FURTHER INFORMATION CONTACT: Sedika Franklin, Designated Federal Official/Associate Director, U.S. Department of Education, White House Initiative on Historically Black Colleges and Universities, 400 Maryland Avenue SW, Washington, DC 20204; telephone: (202) 453-5634 or (202) 453-5630, or email sedika.franklin@ed.gov.

SUPPLEMENTARY INFORMATION:

PBA's Statutory Authority and Function: The PBA is established by Executive Order 13779 (February 28, 2017) and is continued by Executive Order 13811 (September 29, 2017). The PBA is governed by the provisions of FACA (Pub. L. 92-463; as amended, 5 U.S.C.A., Appendix 2), which sets forth standards for the formation and use of advisory committees. The purpose of the PBA is to advise the President through the White House Initiative on Historically Black Colleges and Universities (Initiative) on all matters pertaining to strengthening the educational capacity of Historically Black Colleges and Universities (HBCUs).

The PBA shall advise the President in the following areas: (i) Improving the identity, visibility, and distinctive capabilities and overall competitiveness of HBCUs; (ii) engaging the philanthropic, business, government, military, homeland-security, and education communities in a national dialogue regarding new HBCU programs and initiatives; (iii) improving the ability of HBCUs to remain fiscally secure institutions that can assist the nation in reaching its goal of having the highest proportion of college graduates by 2020; (iv) elevating the public awareness of HBCUs; and (v) encouraging public-private investments in HBCUs.

Meeting Agenda: The meeting agenda will include welcoming remarks; a discussion of Opportunity Zones; presentations and discussion with federal officials related to HBCUs; and a PBA member group discussion. An Opportunity Zone is an economically-distressed community where new investments, under certain conditions, may be eligible for preferential tax treatment. Localities qualify as Opportunity Zones if they have been nominated for that designation by the state and that nomination has been certified by the Secretary of the U.S. Treasury via his delegation of authority to the Internal Revenue Service. The public comment period will begin immediately following the conclusion of the agenda items mentioned above.

Access to the Meeting: An RSVP is required for anyone interested in attending the meeting in person on September 11, 2019. Submit an RSVP by email to the whirsvps@ed.gov mailbox. RSVPs must be received by close of business on September 5, 2019. Include in the subject line of the email request “Meeting RSVP: (organization name).” The email must include the name(s), title, organization/affiliation, mailing address, email address, telephone number, of the person(s) requesting to attend.

Submission of requests to make an oral comment: There are two methods the public may use to provide an oral comment pertaining to the work of the PBA at the September 11, 2019 meeting.

Method One: Submit a request by email to the whirsvps@ed.gov mailbox. Please do not send materials directly to PBA members. Requests must be received by September 5, 2019. Include in the subject line of the email request “Oral Comment Request: (organization name).” The email must include the name(s), title, organization/affiliation, mailing address, email address, telephone number, of the person(s) requesting to speak, and a brief summary (not to exceed one page) of the principal points to be made. All individuals submitting an advance request in accordance with this notice will be afforded an opportunity to speak for three minutes.

Method Two: Register at the meeting location on September 11, 2019, to make an oral comment during the public comment period. The requestor must provide his or her name, title, organization/affiliation, mailing address, email address, and telephone number. Individuals will be selected on a first-come, first-served basis. If selected, each commenter will have an opportunity to speak for three minutes.

All oral comments made will become part of the official record of the PBA. Similarly, written materials distributed during oral presentations will become part of the official record of the meeting.

Submission of written public comments: The PBA invites written comments, which will be read during the Public Comment segment of the agenda. Comments must be received by September 5, 2019, in the whirsvps@ed.gov mailbox, include in the subject line “Written Comments: Public Comment”. The email must include the name(s), title, organization/affiliation, mailing address, email address, and telephone number, of the person(s) making the comment. Comments should be submitted as a Microsoft Word document or in a medium compatible with Microsoft Word (not a PDF file) that is attached to an electronic mail message (email) or provided in the body of an email message. Please do not send material directly to the PBA members.

Access to Records of the Meeting: The Department will post the official report of the meeting on the PBA website 90 days after the meeting. Pursuant FACA, the public may also inspect PBA materials at 400 Maryland Avenue SW, Washington, DC, by emailing oswhi-hbcu@ed.gov or by calling (202) 453-5634 to schedule an appointment.

Reasonable Accommodations: The meeting site is accessible to individuals with disabilities. If you will need an auxiliary aid or service to participate in the meeting (e.g., interpreting service, assistive listening device, or materials in an alternate format), notify the contact person listed in this notice at least one week before the meeting date. Although we will attempt to meet a request received after that date, we may not be able to make available the requested auxiliary aid or service because of insufficient time to arrange it.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Presidential Executive Order 13779, continued by Executive Order 13811.

Diane Auer Jones,
Principal Deputy Under Secretary.

[FR Doc. 2019-18553 Filed 8-27-19; 8:45 am]

BILLING CODE 4000-01-P